DEPARTMENT OF JUSTICE

Drug Enforcement Administration

Manufacturer of Controlled Substances; Notice of Application

Pursuant to section 1301.33(a) of Title 21 of the Code of Federal Regulations (CFR), this is notice that on May 2, 2003, Cambrex Charles City, Inc., 1205 11th Street, Charles City, Iowa 50619, made application by letter to the Drug Enforcement Administration (DEA) for registration as a bulk manufacturer of Dextropropoxyphene (9273), a basic class of Schedule II controlled substance.

The firm plans to manufacture bulk controlled substance for distribution to its customers.

Any other such applicant and any person who is presently registered with DEA to manufacture such a substance may file comments or objections to the issuance of the proposed registration.

Any such comments or objections may be addressed, in quintuplicate, to the Deputy Assistant Administrator, Office of Diversion Control, Drug Enforcement Administration, United States Department of Justice, Washington, DC 20537, Attention: DEA Federal Register Representative (CCD) and must be filed no later than November 3, 2003.

Dated: August 19, 2003.
Laura M. Nagel,
Deputy Assistant Administrator, Office of Diversion Control, Drug Enforcement Administration.

[FR Doc. 03-22331 Filed 8-29-03; 8:45 am]

BILLING CODE 4410-09-M